DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Trade Fair Certification Program Application.

OMB Control Number: 0625-0130.

Form Number(s): ITA-4100P.

Type of Request: Regular submission.

Burden Hours: 360.

Number of Respondents: 120.

Average Hours per Response: 3.

Needs and Uses: The Trade Fair Certification Program provides endorsement and support for private trade show organizers, trade associations, U.S. agents of foreign fair authorities, and other entities to organize and manage a U.S. Pavilion at a foreign trade show. The form is used to apply for certification of their ability to perform this task. The TFC Program uses information from the form to evaluate if both the show and the organizer meet the Department's high standards such as recruiting, delivering show services, attracting small and medium-sized firms, booth pricing, and being an appropriate marketing venue for U.S. firms. The form asks the organizer to respond to twenty-three questions ranging from simple name and address to pricing options to outlining their experience and marketing plans. Potential exhibitors look to trade fair certification to ensure they are participating in a viable show with a reliable organizer. The form also includes information on where to apply, procedures and commitment by the applicant to abide by the terms set forth for program participation.

Affected Public: Business or other for profit organizations; not-for-profit institutions.

Frequency: On occasion.

Respondent's Obligation: Required to obtain or retain benefits.

OMB Desk Officer: Wendy Liberante, (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov.

Written comments and recommendations for the proposed information collection should be sent within 30 days of publication of this notice to Wendy Liberante, OMB Desk Officer, Fax number (202) 395-7285 or via the Internet at Wendy_L._Liberante@omb.eop.gov.

Dated: September 24, 2008.
Gwellnar Banks,
Management Analyst, Office of the Chief Information Officer.

[FR Doc. E8-22782 Filed 9-26-08; 8:45 am]

BILLING CODE 3510-FP-P